DEPARTMENT OF HOUSING AND URBAN DEVELOPMENT

[Docket No. FR-5124-C-06]

Corrected Notice of Submission of Proposed Information Collection to OMB; LOCCS Voice Response System Payment Vouchers for Public and Indian Housing Programs

AGENCY: Office of the Assistant Secretary for Public and Indian Housing, HUD.

ACTION: Notice, correction.

SUMMARY: This notice was previously published on March 1, 2007 and is being republished to extend the comment period until May 31, 2007. The proposed information collection requirement described below will be submitted to the Office of Management and Budget (OMB) for review, as required by the Paperwork Reduction Act. The Department is soliciting public comments on the subject proposal.

HUD is requesting extension of OMB approval for the application for grant funds disbursement through the LOCCS Voice Response System.

DATES: Comments Due Date: July 10, 2007.

ADDRESSES: Interested persons are invited to submit comments regarding this proposal. Comments should refer to the proposal by name and/or OMB approval Number (2577-0166) and should be sent to: Aneita Waites, Reports Liaison Officer, Public and Indian Housing, Department of Housing and Urban Development, 451 7th Street, Room 4116, Washington, DC 20401-5000.

FOR FURTHER INFORMATION CONTACT: Aneita Waites, Reports Liaison Officer, Public and Indian Housing, Department of Housing and Urban Development, 451 7th Street, SW., Room 4116, Washington, DC 20410-5000; e-mail Aneita_L._Waites@HUD.gov; telephone (202) 402-4114. This is not a toll-free number. Copies of available documents submitted to OMB may be obtained from Ms. Waites and at HUD's Web site at http://www5.hud.gov.63001/po/i/icbts/collectionsearch.cfm.

SUPPLEMENTARY INFORMATION: On March 1, 2007 (72 FR 9347), this notice informed the public that the U.S. Department of Housing and Urban Development (HUD) will be submitting the proposed information collection to OMB for review, as required by the Paperwork Reduction Act of 1995 (44 U.S.C. Chapter 35, as amended). This Notice is soliciting comments from members of the public and affecting agencies the proposed collection of information: (1) Evaluate whether the proposed collection of information is necessary for the proper performance of the functions of the agency, including whether the information will have practical utility; (2) Evaluate the accuracy of the agency's estimate of the burden of the proposed collection of information; (3) Enhance the quality, utility, and charity of the information to be collected; and (4) Minimize the burden of the collection of information on those who are to respond; including through the use of appriate automaetd collection techniques or other forms of information technology, e.g., permitting electronic submission of responses. Accordingly, FR Doc. E7-3610, published on March 1, 2007 (72 FR 9348), is being republished to extend the comment period until May 31, 2007.

This Notice Also Lists the Following Information

Title of Proposal: LOCCS Voice Response System Payment Vouchers for Public and Indian Housing Programs.

OMB Approval Number: 2577-0166.

Form Numbers: HUD-50080 series.

Description of the Need for the Information and its Proposed Use: Grant recipients use the applicable payment information to request funds from HUD through the LOCCS/VRS voice activated system. The information collected on the payment voucher will also be used as an internal control measure to ensure the lawful and appropriate disbursement of Federal funds as well as provide a service to program recipients.

Frequency of Submission: On occasion.

| Number of respondents | Annual responses | × | Hours per response | = | Burden hours
Reporting burden | 4,746 | 114,113 |  | 0.15 |  | 17,117

Total estimated burden hours: 17,117.

Status: Request for extension of an existing information collection.

Authority: Section 3507 of the Paperwork Reduction Act of 1995, 44 U.S.C. 35, as amended.

Dated: May 4, 2007.
Bessy Kong,
Deputy Assistant Secretary, Office of Policy, Program and Legislative Initiatives.

[FR Doc. 07-2320 Filed 5-10-07; 8:45 am]

BILLING CODE 4210-07-M